SECURITIES AND EXCHANGE COMMISSION

Sunshine Act Meeting

Federal Register CITATION OF PREVIOUS ANNOUNCEMENT: 76 FR 78054, December 15, 2011.

STATUS: Closed Meeting.

PLACE: 100 F Street NE., Washington, DC

DATE AND TIME OF PREVIOUSLY ANNOUNCED MEETING: Monday, December 19, 2011 at 2 p.m.

CHANGE IN THE MEETING: Date Change.

The Closed Meeting scheduled for Monday, December 19, 2011 at 2 p.m., has been changed to Tuesday, December 20, 2011 at 10 a.m.

At times, changes in Commission priorities require alterations in the scheduling of meeting items. For further information and to ascertain what, if any, matters have been added, deleted or postponed, please contact:

The Office of the Secretary at (202) 551-5400.

Dated: December 16, 2011.
Kevin M. O'Neill,
Deputy Secretary.

[FR Doc. 2011-32601 Filed 12-16-11; 11:15 am]

BILLING CODE 8011-01-P